DEPARTMENT OF THE INTERIOR

National Park Service

Revised Draft Backcountry Management Plan, General Management Plan Amendment and Environmental Impact Statement, Denali National Park and Preserve, AK

AGENCY: National Park Service, Interior.

ACTION: Announcement of public meetings and public comment date change.

SUMMARY: The National Park Service (NPS) announces public meetings to obtain public comment on the Revised Draft Backcountry Management Plan, General Management Plan Amendment and Environmental Impact Statement (EIS) for Denali National Park and Preserve. The document describes and analyzes the environmental impacts of a preferred alternative and four action alternatives for managing the park and preserve's backcountry. A no action alternative also is evaluated. This announcement provides public meeting dates and locations, and corrects the closing date for receipt of public comments and the e-mail address for electronic comments.

DATES: Written comments on the revised draft plan and EIS must be received no later than June 30, 2005. This corrects the date published in the Federal Register with the Notice of Availability on April 26, 2005.

See SUPPLEMENTARY INFORMATION section for public meeting dates and locations.

ADDRESSES: Written comments on the revised draft plan and EIS should be submitted to the Superintendent, Denali National Park and Preserve, Post Office Box 9, Denali Park, Alaska 99755.

FOR FURTHER INFORMATION CONTACT: Mike Tranel, Chief of Planning, Denali National Park and Preserve. Telephone: (907) 644-3611.

SUPPLEMENTARY INFORMATION:

Meetings

The public meeting dates and locations are as follows:

June 8. Cantwell Community Center. Denali Highway. Cantwell, Alaska.

June 9. Alaska Public Lands Information Center. 605 W. 4th Avenue, Anchorage, Alaska.

June 13. Upper Susitna Valley Senior Center. Helena Drive, Sunshine, Alaska.

June 14. Tri-Valley Community Center. Healy Spur Road, Healy, Alaska.

June 15. Noel Wien Library. 1215 Cowles Street, Fairbanks, Alaska.

Each meeting will last from 5 p.m. to 8 p.m. and each will follow the same format. There will be an opportunity for informal explanation, discussion, and individually recorded testimony from 5 p.m. until 6:30 p.m. At 6:30 p.m. there will be a brief presentation followed by a formal public hearing. All comments recorded at these meetings will become a part of the comment record.

Electronic Access and Filing Addresses

Submit electronic comments to dena_bc_plan_comment@nps.gov. The revised draft EIS may be viewed online by following the Revised Draft Backcountry Management Plan link on the Denali homepage at http://www.nps.gov/dena. Hard copies or CDs of the Revised Draft Backcountry Management Plan and General Management Plan Amendment and EIS are available by request from the aforementioned address.

Dated: May 12, 2005.
Marcia Blaszak,
Regional Director, Alaska.

[FR Doc. 05-10733 Filed 5-27-05; 8:45 am]

BILLING CODE 4312-HT-P